SECURITIES AND EXCHANGE COMMISSION

Sunshine Act Meeting

Federal Register Citation of Previous Announcement: [76 FR 74835, December 1, 2011].

STATUS: Open Meeting.

PLACE: 100 F Street, NE., Washington, DC.

DATE AND TIME OF PREVIOUSLY ANNOUNCED MEETING: Tuesday, December 6, 2011.

CHANGE IN THE MEETING: Cancellation of Meeting.

The Open Meeting scheduled for Tuesday, December 6, 2011 at 10 a.m. has been cancelled.

For further information please contact the Office of the Secretary at (202) 551-5400.

Dated: December 2, 2011.
Elizabeth M. Murphy,
Secretary.

[FR Doc. 2011-31484 Filed 12-5-11; 11:15 am]

BILLING CODE 8011-01-P